DEPARTMENT OF ENERGY

Federal Energy Regulatory Commission

[Docket No. CP00-394-000]

William Gas Pipelines Central, Inc.; Notice of Intent To Prepare an Environmental Assessment for the Proposed Pampa Pipeline (Line G) Abandonment Project, and Request for Comments on Environmental Issues

September 27, 2000.

The staff of the Federal Energy Regulatory Commission (FERC or Commission) will prepare an environmental assessment (EA) that will discuss the environmental impacts of the abandonment of facilities proposed in the Williams Gas Pipelines Central, Inc. (Williams) Pampa Pipeline (Line G), also known as the Wichita-Ottawa line, Abandonment Project in Butler, Chase, and Lyon Counties, Kansas.¹ These facilities consist of about 64.3 miles of 16- and 20-inch-diameter pipeline. The EA will be used by the Commission in its decision-making process to determine whether the project in the public convenience and necessity.

¹ Williams' application was filed with the Commission on June 21, 2000, under Section 7 of the Natural Gas Act and Part 157 of the Commission's regulations.

If you are a landowner on Williams' existing Line G pipeline and receive this notice, you may be contacted by a pipeline company representative about the proposed abandonment of facilities. The pipeline company would seek to negotiate a mutually acceptable agreement in regards to additional work space for pipe staging areas needed for the proposed abandonment of facilities. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Williams provided to landowners along the Line G route. This fact sheet addresses a number of typically asked questions, including the use of eminent domain and how to participate in the Commission's proceedings. It is available for viewing on the FERC Internet website (www.ferc.fed.us).

This Notice of Intent (NOI) is being sent to landowners of property crossed by Williams' Line G; Federal, state, and local agencies; elected officials; environmental and public interest groups; Indian tribes that might attach religious and cultural significance to historic properties in the area of potential effects; local libraries and newspapers; and the Commission's list of parties to the proceeding. State and local government representatives are encouraged to notify their constituents of this proposed action and encourage them to comment on their areas of concern.

Additionally, with this NOI we ² are asking those Federal, state, local, and tribal agencies with jurisdiction and/or special expertise with respect to environmental issues to cooperate with us in the preparation of the EA. These agencies may choose to participate once they have evaluated Williams' proposal relative to their agencies' responsibilities. Agencies who would like to request cooperating status should follow the instructions for filing comments described below.

² “We,” “us,” and “our” refer to the environment staff of the Office of Energy Projects, part of the Commission staff.

Summary of the Proposed Project

In an ongoing effort to eliminate old, high maintenance pipelines on its system, Williams is proposing to abandon by sale for reclaim another portion of the Pampa 20-inch pipeline extending from El Dorado, Kansas to Neosho Rapids, Kansas (Line G). Over the years, the Pampa line has been the source of thousands of leaks and high maintenance costs, primarily at the couplings. In view of the age of the line and the construction techniques used, it is anticipated that Williams would have ongoing problem with this pipeline. Accordingly, Williams has determined that the best course of action is to continue to abandon the Pampa line when opportunity arises.

Williams proposes to abandon by sale about 64.3 miles of its Line G, consisting of 59.4 miles of 20-inch-diameter pipeline and 4.9 miles of 16-inch-diameter pipeline. The purchaser would, in turn, reclaim about 57.1 miles of pipeline (4.5 miles of 16-inch-diameter pipeline and 52.6 miles of 20-inch-diameter pipeline) for salvage and would abandon in place about 7.2 miles of pipeline (0.4 mile of 16-inch-diameter pipeline and 6.8 miles of 20-inch-diameter pipeline).

The pipeline would be abandoned in place at road and railroad crossings, all waterbody and wetland crossings, and any other environmentally sensitive locations (e.g., residences), unless the pipe is exposed and is causing a safety hazard.

Due to a few landowners requesting that the pipeline be abandoned in place on their property, Williams is now in the process of evaluating the amount of pipe that might be reclaimed versus what might be abandoned in place and contacting a possible purchaser to estimate a market value. Should the results indicate that the benefits of reclaiming the pipeline are negligible or outweighed by abandoning the pipe in place, then Williams shall reconsider the current application.

The general location of Williams' proposed facilities is shown on the map attached as appendix 2.³

³ The appendices referenced in this notice are not being printed in the Federal Register. Copies are available on the Commission's website at the “RIMS” link or from the Commission's Public Reference and Files Maintenance Branch, 888 First Street, NE, Room 2A, Washington, DC 20426, or call (202) 208-1371. For instructions on connecting to RIMS to the last page of this notice. Copies of the appendices were sent to all those receiving this notice in the mail.

Land Requirements for Abandonment by Removal

The current permanent right-of-way width is 66 feet. Removal of the proposed facilities would require about 462 acres of land, of which 5.2 acres would be used for additional work space needed for temporary storage of the reclaimed pipe until it can be loaded onto trucks and removed from the area. Upon completion of the removal project the current permanent right-of-way and additional work space no longer be required and the land would be restored and would revert back to the landowner and its former use.

The EA Process

The National Environmental Policy Act (NEPA) requires the Commission to take into account the environmental impacts that could result from an action whenever it considers the issuance of a Certificate of Public Convenience and Necessity. NEPA also requires us to discover and address concerns the public may have about proposals. We call this “scoping.” The main goal of the scoping process is to focus the analysis in the EA on the important environmental issues. By this NOI, the Commission requests public comments on the scope of the issues it will address in the EA. All comments received are considered during the preparation of the EA.

Our independent analysis of the issues will be in the EA. Depending on the comments received during the scoping process, the EA may be published and mailed to Federal, state, and local agencies, elected officials, affected landowners, regional public interest groups, Indian tribes, local newspapers and libraries, and the Commission's official service list for this proceeding. A comment period will be allotted for review if the EA is published. We will consider all comments on the EA before we make our recommendations to the Commission.

Currently Identified Environmental Issues

The EA will discuss impacts that could occur as a result of abandonment of the proposed project. Landowners requesting that the pipeline on their property be abandoned in place has been identified as an issue that we think deserves attention based on a preliminary review of the proposed facilities and the environmental information provided by Williams.

Public Participation

You can make a difference by providing us with your specific comments or concerns about the project. By becoming a commentor your concerns will be addressed in the EA and considered by the Commission. You should focus on the potential environmental effects of the proposal, alternatives to the proposal, and measures to avoid or lessen environmental impact. The more specific your comments, the more useful they will be. Please carefully follow these instructions to ensure that your comments are received in time and properly recorded:

• Send original and two copies of your letter to: David P. Boergers, Secretary, Federal Energy Regulatory Commission, 888 First St., NE., Room 1A, Washington, DC 20426;

• Label one copy of the comments for the attention of Environmental Gas Group 1, PJ-11.1;

• Reference Docket No. CP00-394-000; and

• Mail yor comments so that they will be received in Washington, DC on or before October 30, 2000.

[If you do not want to send comments at this time but still want to remain on our mailing list, please return the Information Request (appendix 3). If you do not return the Information Request, you will be removed from the environmental mailing list.]

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-0004 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Linwood A. Watson, Jr.,
Acting Secretary.

[FR Doc. 00-25309 Filed 10-2-00; 8:45 am]

BILLING CODE 6717-01-M